DEPARTMENT OF LABOR

Mine Safety and Health Administration

Petitions for Modification

This notice revises the safety standard number referenced in a petition for modification notice that was published in the Federal Register on February 4, 2003 (68 FR 5664), for the Dakota Westmoreland Corporation, Beulah Mine. In a letter from the petitioner dated March 7, 2003, the petitioner requests that the safety standard in its petition for modification, docket number M-2003-005-C, be changed from 30 CFR 77.405(b) to 30 CFR 77.803. The petitioner's request is to modify the existing safety standard, 30 CFR 77.803, to allow an alternative method to permit its boom/mast machine to be raised or lowered during initial dragline assembly or disassembly at construction sites. The petitioner asserts that its proposed alternative method would not result in a diminution of safety to the miners but would provide at least the same measure of protection as the existing standard.

Dated in Arlington, Virginia, this 26th day of March, 2003.
Marvin W. Nichols, Jr.,
Director, Office of Standards, Regulations, and Variances.

[FR Doc. 03-8019 Filed 4-2-03; 8:45 am]

BILLING CODE 4510-43-P